DEPARTMENT OF EDUCATION

[Docket No.: ED-2025-SCC-0086]

Institute of Education Sciences (IES), Department of Education (ED) Agency Information Collection Activities; Comment Request; National Public Education Financial Survey (NPEFS) 2025-2027

AGENCY: Institute of Education Sciences (IES), Department of Education (ED).

ACTION: Notice.

SUMMARY: In accordance with the Paperwork Reduction Act of 1995, ED is requesting an extension of a currently approved information collection.

DATES: To ensure consideration, comments regarding this proposed information collection must be received on or before September 16, 2025.

ADDRESSES: To access and review all the documents related to the information collection listed in this notice, please use http://www.regulations.gov by searching the Docket ID number ED-2025-SCC-0086. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to Chris Greene, Institute of Education Sciences, U.S. Department of Education, 400 Maryland Avenue SW, Washington, DC 20202.

FOR FURTHER INFORMATION CONTACT: Requests for additional information or specific questions related to collection activities should be directed to Chris Greene, Senior Advisor, Institute of Education Sciences, 202-453-5926 or chris.greene@ed.gov.

SUPPLEMENTARY INFORMATION: The Department of Education (ED), in accordance with the Paperwork Reduction Act of 1995 (PRA) (44 U.S.C. 3506(c)(2)(A)) (https://www.govinfo.gov/content/pkg/USCODE-2023-title44/pdf/USCODE-2023-title44-chap35-subchapI-sec3506.pdf), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Public Education Financial Survey (NPEFS) 2025-2027.

OMB Control Number: 1850-0067.

Type of Review: An extension, without change, of a currently approved information collection.

Respondents/Affected Public: State, Local, and Tribal Governments.

Total Estimated Number of Annual Responses: 56.

Total Estimated Number of Annual Burden Hours: 7,327.

Abstract: The National Public Education Financial Survey (NPEFS) is an annual collection of state-level finance data that has been included in the National Center for Education Statistics (NCES) Common Core of Data (CCD) since FY 1982 (school year 1981-82). The U.S. Census Bureau (Census), Economic Reimbursable Surveys Division, administers the NPEFS data collection for NCES under interagency agreement in conjunction with the Local Education Agency (School District) Finance Survey (F-33) (OMB #0607-0700) and the School-Level Finance Survey (SLFS) (OMB #1850-0930). NPEFS is a comprehensive source of state-level finance data for public education collected on a nationwide scale using uniform definitions, concepts, and procedures. The collection includes the revenues, expenditures, and average daily attendance of all publicly funded schools and elementary-secondary local education agencies (LEAs), state payments on behalf of LEAs, and state support for a free public education for students in prekindergarten through 12th grade. In this notice, NCES is announcing its intention to extend the date of clearance for NPEFS, without change, to the currently approved collection. Detailed information about the collection can be found at https://www.reginfo.gov/public/do/PRAViewICR?ref_nbr=202309-1850-011.

NPEFS data are used to calculate a state's “average per-pupil expenditure” (SPPE) for elementary and secondary education, as defined by Title 20 U.S.C., Section 7801, paragraphs 1, 2, 3, 12, 26, and 48. SPPE data are used in calculating allocations for certain formula grant programs, including, but not limited to, Title I, Part A, of the Elementary and Secondary Education Act of 1965 (ESEA), Impact Aid, and Indian Education programs. Other programs, such as the Education for Homeless Children and Youth program under title VII of the McKinney-Vento Homeless Assistance Act, and the Student Support and Academic Enrichment Grants under title IV, part A of the ESEA make use of SPPE data indirectly because their formulas are based, in whole or in part, on State title I, part A, allocations.

Data will be collected from State Education Agencies (SEAs) for all 50 states, the District of Columbia, American Samoa, the Northern Mariana Islands, Guam, Puerto Rico, and the Virgin Islands. SEAs appoint state fiscal coordinators to work with NCES and the U.S. Census Bureau to provide accurate and comparable data across states and jurisdictions. SEAs typically collect finance data from school districts for their own uses. Many states produce a state-specific chart of accounts or accounting manual to assist school districts in classifying and reporting finance data and producing government-wide financial statements. Uniform definitions and concepts of revenues and expenditures are defined by the NCES handbook Financial Accounting for Local and State School Systems.

Comparative data on resources and spending patterns is helpful for states to evaluate the effectiveness of their programs and services. The products of this data collection make it possible for data users to search a single database to obtain information on such things as instruction and student support services expenditures per pupil; expenditures on salaries and benefits, supplies, and purchased services; and the percent of school system funding from state, local, and federal sources. Education finance statistics provided by this collection allow for state-level comparisons of how public elementary-secondary education systems receive their funding and how they are spending their funds.

Ross Santy,
Chief Data Officer, Office of Planning, Evaluation and Policy Development.

[FR Doc. 2025-13486 Filed 7-17-25; 8:45 am]

BILLING CODE 4000-01-P